DEPARTMENT OF ENERGY

Federal Energy Regulatory Commission

Combined Notice of Filings #1

Take notice that the commission received the following accounting Request filings:

Docket Numbers: AC26-16-000.

Applicants: American Electric Power Service Corporation.

Description: American Electric Power Service Corporation submits Amendment to Proposed Accounting Entries re Public Service Company of Oklahoma's acquisition of Green Country Energy, LLC.

Filed Date: 1/21/26.

Accession Number: 20260121-5064.

Comment Date: 5 p.m. ET 2/11/26.

Take notice that the Commission received the following electric corporate filings:

Docket Numbers: EC26-31-000.

Applicants: Landrace Holdings, LLC, PGR 2021 Lessee 18, LLC, PGR 2021 Lessee 13, LLC, PGR 2021 Lessee 9, LLC, PGR 2022 Lessee 1, LLC, PGR 2022 Lessee 4, LLC, PGR 2022 Lessee 5, LLC, PGR 2022 Lessee 9, LLC, PGR 2022 Lessee 2, LLC, PGR 2023 Lessee 1, LLC, Virginia Line Solar, LLC, Sonny Solar, LLC, Bulldog Solar, LLC, Cane Creek Solar, LLC, Moonshot Solar, LLC, Glover Creek Solar, LLC, Catalina Solar, LLC, Old Hayneville Solar, LLC, Fresh Air Energy XXIII, LLC, BII BID Solar II Aggregator LP.

Description: Response to 11/19/2025, Deficiency Letter of Landrace Holdings, LLC et al.

Filed Date: 1/16/26.

Accession Number: 20260116-5193.

Comment Date: 5 p.m. ET 1/30/26.

Docket Numbers: EC26-49-000.

Applicants: BOCA bn, LLC, Crossover Wind LLC, Glacier Sands Wind Power, LLC, McHenry Battery Storage, LLC, Moraine Sands Wind Power, LLC, Winfield Solar I, LLC, Cedar Point Wind, LLC, Silver State Solar Power North, LLC, Pattern Energy Group LP.

Description: Joint Application for Authorization Under Section 203 of the Federal Power Act of BOCA bn, LLC, et al.

Filed Date: 1/16/26.

Accession Number: 20260116-5191.

Comment Date: 5 p.m. ET 2/6/26.

Docket Numbers: EC26-50-000.

Applicants: Pleasant Valley Solar, LLC.

Description: Application for Authorization Under Section 203 of the Federal Power Act of Pleasant Valley Solar, LLC.

Filed Date: 1/20/26.

Accession Number: 20260120-5273.

Comment Date: 5 p.m. ET 2/10/26.

Take notice that the Commission received the following electric rate filings:

Docket Numbers: ER15-734-004; ER16-2290-005.

Applicants: Spartan Renewable Energy, Inc., Wolverine Power Supply Cooperative, Inc.

Description: Notice of Change in Status of Wolverine Power Supply Cooperative, Inc., et al.

Filed Date: 1/16/26.

Accession Number: 20260116-5195.

Comment Date: 5 p.m. ET 2/6/26.

Docket Numbers: ER25-445-003.

Applicants: Southwest Power Pool, Inc.

Description: Compliance filing: Compliance Filing in Response to Order issued in ER25-445 to be effective 9/1/2025.

Filed Date: 1/21/26.

Accession Number: 20260121-5118.

Comment Date: 5 p.m. ET 2/11/26.

Docket Numbers: ER25-885-002.

Applicants: New York Independent System Operator, Inc., New York Transco, LLC.

Description: Compliance filing: New York Independent System Operator, Inc. submits tariff filing per 35: NY Transco Compliance: Formula Rate Revisions to Base ROE to be effective 3/12/2025.

Filed Date: 1/21/26.

Accession Number: 20260121-5063.

Comment Date: 5 p.m. ET 2/11/26.

Docket Numbers: ER26-394-001.

Applicants: Southwest Power Pool, Inc.

Description: Tariff Amendment: Deficiency Response—3055R4 AECI NITSA NOA to be effective 1/1/2026.

Filed Date: 1/20/26.

Accession Number: 20260120-5260.

Comment Date: 5 p.m. ET 2/10/26.

Docket Numbers: ER26-399-001.

Applicants: Associated Electric Cooperative, Inc., Southwest Power Pool, Inc.

Description: Tariff Amendment: Southwest Power Pool, Inc. submits tariff filing per 35.17(b): Deficiency Response—AECI's Network Customer Transmission Credits to be effective 1/1/2026.

Filed Date: 1/20/26.

Accession Number: 20260120-5254.

Comment Date: 5 p.m. ET 2/10/26.

Docket Numbers: ER26-1085-000.

Applicants: Midcontinent Independent System Operator, Inc.

Description: § 205(d) Rate Filing: 2026-01-20_SA 4656 ATXI-Ameren MO GIA (E0013) to be effective 3/22/2026.

Filed Date: 1/20/26.

Accession Number: 20260120-5217.

Comment Date: 5 p.m. ET 2/10/26.

Docket Numbers: ER26-1086-000.

Applicants: Midcontinent Independent System Operator, Inc.

Description: § 205(d) Rate Filing: 2026-01-20_SA 4657 Ameren MO-OTP-NSP-ITC-MEC JTIQ CA (E0013) to be effective 3/22/2026.

Filed Date: 1/20/26.

Accession Number: 20260120-5220.

Comment Date: 5 p.m. ET 2/10/26.

Docket Numbers: ER26-1087-000.

Applicants: NextEra Energy Transmission Midwest, LLC.

Description: § 205(d) Rate Filing: NEET MW Abandonment Cost Filing to be effective 3/22/2026.

Filed Date: 1/20/26.

Accession Number: 20260120-5238.

Comment Date: 5 p.m. ET 2/10/26.

Docket Numbers: ER26-1088-000.

Applicants: PJM Interconnection, L.L.C.

Description: § 205(d) Rate Filing: Thirty-Day Compliance Filing with Order on Show Cause to be effective 12/31/9998.

Filed Date: 1/20/26.

Accession Number: 20260120-5251.

Comment Date: 5 p.m. ET 2/10/26.

Docket Numbers: ER26-1089-000.

Applicants: Midcontinent Independent System Operator, Inc.

Description: § 205(d) Rate Filing: 2026-01-21_SA 4665 City of Springfield-Lincoln Capital Land GIA (E0003) to be effective 1/6/2026.

Filed Date: 1/21/26.

Accession Number: 20260121-5040.

Comment Date: 5 p.m. ET 2/11/26.

Docket Numbers: ER26-1090-000.

Applicants: Tri-State Generation and Transmission Association, Inc.

Description: § 205(d) Rate Filing: Amendment to Service Agreement No. 929, WAPA to be effective 1/6/2026.

Filed Date: 1/21/26.

Accession Number: 20260121-5058.

Comment Date: 5 p.m. ET 2/11/26.

Docket Numbers: ER26-1091-000.

Applicants: ISO New England Inc., New England Power Pool Participants Committee.

Description: § 205(d) Rate Filing: ISO New England Inc. submits tariff filing per 35.13(a)(2)(iii: Financial Assurance Policy Revisions Regarding Obligation Roll-Off Timing to be effective 5/1/2026.

Filed Date: 1/21/26.

Accession Number: 20260121-5078.

Comment Date: 5 p.m. ET 2/11/26.

Docket Numbers: ER26-1092-000.

Applicants: Top Hat Wind Energy LLC.

Description: Tariff Amendment: Notice of Cancellation of Market Based Rate Tariff of Top Hat Wind Energy LLC to be effective 1/22/2026.

Filed Date: 1/21/26.

Accession Number: 20260121-5100.

Comment Date: 5 p.m. ET 2/11/26.

Docket Numbers: ER26-1093-000.

Applicants: Wagon Wheel Wind Project, LLC.

Description: Tariff Amendment: Notice of Cancellation of MBR Tariff of Wagon Wheel Wind Project, LLC to be effective 1/22/2026.

Filed Date: 1/21/26.

Accession Number: 20260121-5101.

Comment Date: 5 p.m. ET 2/11/26.

Docket Numbers: ER26-1094-000.

Applicants: PJM Interconnection, L.L.C.

Description: § 205(d) Rate Filing: GIA, SA No. 7806; AF2-222 and Notice of Cancellation of SA Nos. 6950 and 6951 to be effective 12/23/2025.

Filed Date: 1/21/26.

Accession Number: 20260121-5121.

Comment Date: 5 p.m. ET 2/11/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated January 21, 2026.
Carlos D. Clay,
Deputy Secretary.

[FR Doc. 2026-01436 Filed 1-23-26; 8:45 a.m.]

BILLING CODE 6717-01-P